DEPARTMENT OF HEALTH AND HUMAN SERVICES

Administration for Children and Families

Proposed Information Collection Activity; Comment Request

Proposed Projects: Updating the Immigration Judge with information about the unaccompanied minor's case and reunification with a sponsor.

Title: Unaccompanied Children Case Summary Form.

OMB No.: New.

Description: Following the passage of the 2002 Homeland Security Act (Pub. L. 107-296), the Administration for Children and Families (ACF), Office of Refugee Resettlement (ORR), is charged with the care and placement of unaccompanied children in Federal custody. Unaccompanied children attend immigration court hearings while in ORR care if the length of stay is more than sixty days. The form in question was created with input from immigration judges at the Executive Office for Immigration Review (EOIR).

The proposed information collection requests information to be utilized by EOIR for determining the best course of action to take in the UC's case in immigration court. The proposed instrument is the Unaccompanied Children Case Summary Form.

Respondents: Case Managers who are employees of social service agencies receiving grants from ORR to vet potential sponsors and to help advance the UC's case by providing updates to the Immigration Judge hearing the UC's case requesting legal relief from deportation.

Annual Burden Estimates
Instrument | Number of respondents | Number of responses per respondent | Average burden hours per response | Total burden hours
UAC Case Summary | 100 | 10 | .10 | 100

Estimated Total Annual Burden Hours: In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-23951 Filed 10-3-16; 8:45 am]

BILLING CODE 4184-01-P